DEPARTMENT OF ENERGY

Federal Energy Regulatory Commission

[Docket No. NJ04-4-000]

Orlando Utilities Commission; Notice of Filing

May 4, 2004.

Take notice, that on April 27, 2004, the Orlando Utilities Commission (OUC) filed revisions to its non-jurisdictional open access transmission tariff to incorporate non-jurisdictional Large Generator Interconnection Procedures, a Large Generator Interconnection Agreement, and OUC's Interconnection Guide to comply with Order Nos. 2003 and 2003-A, Standardization of Generator Interconnection Agreements and Procedures. OUC has requested an effective date of April 26, 2004.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: May 27, 2004.

Magalie R. Salas,
Secretary.

[FR Doc. E4-1101 Filed 5-12-04; 8:45 am]

BILLING CODE 6717-01-P